DEPARTMENT OF ENERGY

Federal Energy Regulatory Commission

18 CFR Part 39

[Docket No. RM05-30-000; Order No. 672]

Rules Concerning Certification of the Electric Reliability Organization; and Procedures for the Establishment, Approval, and Enforcement of Electric Reliability Standards

March 2, 2006.

AGENCY: Federal Energy Regulatory Commission, DOE.

ACTION: Final rule; correction.

SUMMARY: The Federal Energy Regulatory Commission (Commission) is correcting a final rule that appeared in the Federal Register of February 17, 2006 (71 FR 8662). The final rule establishes criteria that an entity must satisfy to qualify to be the Electric Reliability Organization (ERO) which the Commission will certify as the organization that will propose and enforce Reliability Standards for the Bulk-Power System in the United States, subject to Commission approval. The final rule also establishes procedures under which the ERO may propose new or modified Reliability Standards for Commission review and procedures governing an enforcement action for the violation of a Reliability Standard.

DATES: Effective March 20, 2006.

FOR FURTHER INFORMATION CONTACT: Jonathan First, Office of the General Counsel, Federal Energy Regulatory Commission, 888 First Street, NE., Washington, DC 20426. 202-502-8529.

SUPPLEMENTARY INFORMATION: In FR Doc. 06-1227 appearing on page 8662 in the Federal Register of Friday, February 17, 2006, the following correction is made. The Commission notes that the error does not appear in the order issued by the Commission.

§ 39.6 [Corrected]

1. On page 8739, in the second column, in § 39.6 Conflict of a Reliability Standard with a Commission Order, in paragraph (a), “the user owner or operator shall expeditiously notify the Commission * * * ” is corrected to read “the Transmission Organization shall expeditiously notify the Commission * * *.”

Magalie R. Salas,
Secretary.

[FR Doc. 06-2194 Filed 3-7-06; 8:45 am]

BILLING CODE 6717-01-P